DEPARTMENT OF HOMELAND SECURITY

Coast Guard

[USCG-2011-1179]

National Offshore Safety Advisory Committee

AGENCY: Coast Guard, DHS.

ACTION: Notice of teleconference meeting.

SUMMARY: The National Offshore Safety Advisory Committee (NOSAC) will meet by teleconference to review and discuss reports and recommendations on (1) the Diving Subcommittee and Task Statement to Study the Matter of Medical Treatment of Injured Divers while working on the Outer Continental Shelf (OCS) and (2) receive and discuss the Standards for DP Operating Personnel subcommittee interim report. This meeting will be open to the public.

DATES: The teleconference meeting will take place on Wednesday, February 15, 2012, from 10:30 a.m. to 12 p.m. EST. This meeting may close early if all business is finished.

ADDRESSES: The Committee will meet via telephone conference, on February 15, 2012. The Public may participate by contacting the DFO and obtaining the telephone number to call in. Please contact the DFO as listed below in the FOR FURTHER INFORMATION CONTACT section to obtain teleconference information; however, the number of teleconference lines is limited and available on a first come first served basis. Members of the public may also participate by coming to Room 5-0622, U.S. Coast Guard Headquarters Building, 2100 Second Street SW., Washington DC 20593. Requests to make oral presentations should be sent to Commander Rob Smith, Designated Federal Officer (DFO) of NOSAC, Commandant (CG-5222), 2100 Second Street SW., Stop 7126, Washington, DC 20593-0005 or by fax to (202) 372-1926 on or before February 8, 2012.

For information on facilities or services for individuals with disabilities or to request special assistance at the teleconference, contact the individuals listed in the FOR FURTHER INFORMATION CONTACT section, as soon as possible.

To facilitate public participation we are inviting public comment on the issues to be considered by the committee as listed in the “Agenda” section below. Comments must be submitted in writing no later than February 8, 2012, and must be identified by USCG-2011-1179 and may be submitted by one of the following methods:

• Federal eRulemaking Portal: http://www.regulations.gov. Follow the instructions for submitting comments.

• Email: Kevin.Y.Pekarek2@uscg.mil. Include the docket Number in the subject line of the message.

• Fax: (202) 372-1926.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is (202) 366-9239.

Instructions: All submissions received must include the words “Department of Homeland Security” and the docket number of this action. Comments received will be posted without alteration at www.regulations.gov, including any personal information provided. You may review a Privacy Act notice regarding our public dockets in the January 17, 2008, issue of the Federal Register (73 FR 3316).

Docket: For access to the docket to read documents or comments related to this notice, go to www.regulations.gov. A public comment period will be held during the meeting on February 15, 2012, from 11:30-12:00 p.m. Speakers are requested to limit their comments to 3 minutes. Please note that the public comment period may end before the time indicated, following the last call for comments. Contact the individuals listed below to register as a speaker.

FOR FURTHER INFORMATION CONTACT: Commander Rob Smith, Designated Federal Officer (DFO) of NOSAC, or Mr. Kevin Pekarek, Alternate Designated Federal Officer (ADFO), telephone (202) 372-1386, fax (202) 372-1926. If you have any questions on viewing or submitting material to the docket, call Renee V. Wright, Program Manager, Docket Operations, telephone (202) 366-9826.

SUPPLEMENTARY INFORMATION: Notice of this meeting is given under the Federal Advisory Committee Act (FACA), 5 U.S.C. App. (Pub. L. 92-463). NOSAC provides advice and recommendations to the Department of Homeland Security (DHS) on matters and actions concerning activities directly involved with or in support of the exploration of offshore mineral and energy resources insofar as they relate to matters within Coast Guard jurisdiction.

Agenda of Meeting

The agenda for the February 15, 2012, Committee meeting is as follows:

(1) Roll Call of committee members participating in the teleconference.

(2) Approval of minutes from the November 15, 2011, meeting.

(3) Presentation and discussion of interim reports and recommendations on:

(a) Diving Sub-committee and Task Statement to Study the Matter of Medical Treatment of Injured Divers While Working on the OCS.

(b) Standards for DP Operating Personnel.

(4) Period for public comment.

Minutes

Minutes from the meeting will be available for public review and copying 30 days following the meeting at the www.fido.gov Web site. The meeting minutes may be accessed via this Web site by using the Committee Search function and searching for the Committee by name or by using the Committee number of “68.” Once you have accessed the Committee page, click on the meetings tab and then the “View” button for the meeting dated February 15, 2012, to access the information for this meeting. Minutes and documents applicable for this meeting can also be found at an alternative site using the following web address: https://homeport.uscg.mil and use these key strokes: Missions>Port and Waterways>Safety Advisory Committee>NOSAC and then use the event key.

Dated: January 26, 2012.
J.G. Lantz,
Director of Commercial Regulations and Standards.

[FR Doc. 2012-2120 Filed 1-31-12; 8:45 am]

BILLING CODE 9110-04-P